DEPARTMENT OF TRANSPORTATION

Federal Aviation Administration

Twentieth RTCA SC-227 Standards of Navigation Performance Plenary

AGENCY: Federal Aviation Administration (FAA), U.S. Department of Transportation (DOT).

ACTION: Twentieth RTCA SC-227 Standards of Navigation Performance Plenary.

SUMMARY: The FAA is issuing this notice to advise the public of a meeting of Twentieth RTCA SC-227 Standards of Navigation Performance Plenary. SC-227 is a subcommittee to RTCA.

DATES: The meeting will be held September 20, 2017, 1:00 p.m.-3:00 p.m.

ADDRESSES: The meeting will be held at: RTCA Headquarters, 1150 18th Street NW., Suite 910, Washington, DC 20036.

FOR FURTHER INFORMATION CONTACT: Claudia Chaudhari at cchaudhari@rtca.org or 202-330-0662, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twentieth RTCA SC-227 Standards of Navigation Performance Plenary. The agenda will include the following:

Wednesday, September 20, 2017, 1:00 p.m.-3:00 p.m.

1 Welcome and Administrative Remarks

2 Introduction

3 Review of Minutes From Meeting 19

4 Agenda Overview

A. Schedule

B. New Business

5 Approve Release of Final Draft DO-257A for FRAC

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15605 Filed 7-25-17; 8:45 am]

BILLING CODE 4910-13-P